DEPARTMENT OF AGRICULTURE

Forest Service

California Coast Provincial Advisory Committee (PAC)

AGENCY: Forest Service, USDA.

ACTION: Notice of meeting.

SUMMARY: The California Coast Provincial Advisory Committee (PAC) will meet on April 12 and 13, 2000, in the Agate Beach Room (Mezzanine Floor) in the Jolly Giant Commons (Building 62) at Humboldt State University in Arcata, California. The meeting will be held from 2 until 5 p.m. on Wednesday, April 12, and from 8 a.m. to 3 p.m. on Thursday, April 13. The University is located at 355 Granite Ave. in Arcata. Agenda items to be covered include: (1) PAC/PIEC effectiveness and issues criteria/process; (2) Regional Ecosystem Office (REO) update; (3) Aquatic/Riparian Effectiveness Monitoring Draft Plan presentation; (4) Megram Fire update; (5) Forest Service proposed road management policy presentation; (6) Recreation Fee Demonstration program presentation; and (7) Open public comment. All California Coast Provincial Advisory Committee meetings are open to the public. Interested citizens are encouraged to attend.

FOR FURTHER INFORMATION CONTACT: Direct questions regarding this meeting to Daniel Chisholm, Forest Supervisor, or Phebe Brown, Province Coordinator, USDA, Mendocino National Forest, 825 N. Humboldt Avenue, Willows, CA 95988, (530) 934-3316.

Dated: March 21, 2000.
Daniel K. Chisholm,
Forest Supervisor.

[FR Doc. 00-7895 Filed 3-29-00; 8:45 am]

BILLING CODE 3410-11-M